FEDERAL DEPOSIT INSURANCE CORPORATION

Notice of Open Meeting of the FDIC Advisory Committee on Economic Inclusion

AGENCY: Federal Deposit Insurance Corporation.

SUMMARY: In accordance with the Federal Advisory Committee Act, notice is hereby given of a meeting of the FDIC Advisory Committee on Economic Inclusion. The Advisory Committee will provide advice and recommendations on initiatives to expand access to banking services by underserved populations. The meeting is open to the public. The public's means to observe this meeting of the Advisory Committee on Economic Inclusion will be both in-person and via a Webcast live on the internet. In addition, the meeting will be recorded and subsequently made available on-demand approximately two weeks after the event. To view the live event, visit http://fdic.windrosemedia.com.

DATES: Wednesday, June 4, 2024, from 9:00 a.m. to 4:00 p.m.

ADDRESSES: The meeting will be held in the FDIC Board Room on the 6th floor of the FDIC Building located at 550 17th Street NW, Washington, DC.

FOR FURTHER INFORMATION CONTACT: Requests for further information concerning the meeting may be directed to Debra A. Decker, Committee Management Officer of the FDIC at (202) 898-8748.

SUPPLEMENTARY INFORMATION:

Agenda: The agenda will include updates from Committee members about key challenges facing their communities or organizations. There will be panel discussions on the current environment for economic inclusion, including industry and market trends that affect consumer participation in the banking system. The agenda is subject to change. Any changes to the agenda will be announced at the beginning of the meeting.

Type of Meeting: The meeting will be open to the public, limited only by the space available on a first-come, first-served basis. For security reasons, members of the public will be subject to security screening procedures and must present a valid photo identification to enter the building. Observers requiring auxiliary aids (e.g., sign language interpretation) for this meeting should email DisabilityProgram@fdic.gov to make necessary arrangements. This meeting will also be Webcast live via the internet at http://fdic.windrosemedia.com. To view the recording, visit http://fdic.windrosemedia.com/index.php?category=Advisory+Committee+on+Economic+Inclusion+-+(Come-IN). Written statements may be filed with the committee before or after the meeting.

Federal Deposit Insurance Corporation.
Dated at Washington, DC, on May 15, 2024.
James P. Sheesley,
Assistant Executive Secretary.

[FR Doc. 2024-11022 Filed 5-17-24; 8:45 am]

BILLING CODE 6714-01-P